DEPARTMENT OF TRANSPORTATION

Federal Aviation Administration

14 CFR Part 39

[Docket No. FAA-2018-0169; Product Identifier 2017-NM-095-AD; Amendment 39-19372; AD 2018-17-18]

RIN 2120-AA64

Airworthiness Directives; Airbus SAS Airplanes

AGENCY: Federal Aviation Administration (FAA), Department of Transportation (DOT).

ACTION: Final rule.

SUMMARY: We are superseding Airworthiness Directive (AD) 2015-02-17, which applied to all Airbus Model A330-200, A330-200 Freighter, and A330-300 series airplanes. AD 2015-02-17 required revising the electrical emergency configuration procedure in the Emergency Procedures section of the airplane flight manual (AFM) to include procedures for deploying the ram air turbine manually to provide sufficient hydraulic power and avoid constant speed motor/generator (CSM/G) shedding. Since we issued AD 2015-02-17, we have determined that replacement or modification of the two flight warning computers (FWCs) is necessary to address the identified unsafe condition. This AD requires the replacement or modifications of the two FWCs. This AD also removes airplanes from the applicability. We are issuing this AD to address the unsafe condition on these products.

DATES: This AD is effective October 5, 2018.

The Director of the Federal Register approved the incorporation by reference of a certain publication listed in this AD as of October 5, 2018.

The Director of the Federal Register approved the incorporation by reference of certain other publications listed in this AD as of February 13, 2015 (80 FR 4762, January 29, 2015).

ADDRESSES: For service information identified in this final rule, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0169.

Examining the AD Docket

You may examine the AD docket on the internet at http://www.regulations.gov by searching for and locating Docket No. FAA-2018-0169; or in person at Docket Operations between 9 a.m. and 5 p.m., Monday through Friday, except Federal holidays. The AD docket contains this final rule, the regulatory evaluation, any comments received, and other information. The address for Docket Operations (phone: 800-647-5527) is Docket Operations, U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

We issued a notice of proposed rulemaking (NPRM) to amend 14 CFR part 39 to supersede AD 2015-02-17, Amendment 39-18084 (80 FR 4762, January 29, 2015) (“AD 2015-02-17”). AD 2015-02-17 applied to all Airbus Model A330-200, A330-200 Freighter, and A330-300 series airplanes. The NPRM published in the Federal Register on April 16, 2018 (83 FR 16248). The NPRM was prompted by a determination that replacement or modification of the two FWCs is necessary to address the identified unsafe condition. The NPRM proposed to require the replacement or modification of the two FWCs. The NPRM also proposed to remove airplanes from the applicability. We are issuing this AD to address the identified unsafe condition.

The European Aviation Safety Agency (EASA), which is the Technical Agent for the Member States of the European Union, has issued EASA AD 2017-0105R1, dated July 17, 2017 (referred to after this as the Mandatory Continuing Airworthiness Information, or “the MCAI”), to correct an unsafe condition for all Airbus SAS Model A330-200, A330-200 Freighter, and A330-300 series airplanes. The MCAI states:

The Constant Speed Motor/Generator (CSM/G), as installed on Airbus A330 aeroplanes, is qualified for an overload condition of 9.5 kVA [kilovolt-ampere] for 30 minutes. This duration is sufficient to perform safe landing and go-around. However, electrical load analysis revealed that the hydraulic power might not be sufficient to supply the CSM/G during slat/flap extension, when only one engine is running.

This condition, if not corrected, and in conjunction with the loss of main system, could lead to a scenario where the crew is not clearly warned that the electrical system has switched on the battery and thus has a limited duration to support a safe landing.

To initially address this potential unsafe condition, Airbus issued an Aircraft Flight Manual (AFM) Temporary Revision (TR) to amend the electrical emergency configuration “ELEC EMER CONFIG” procedure to require the pilot to deploy the ram air turbine manually before setting the Landing Recovery to “ON” position, which provides sufficient hydraulic power and avoids CSM/G shedding under worst-case operational conditions. Consequently, EASA issued AD 2014-0273 to require amendment of the AFM by incorporating the applicable Airbus TR.

After finding that [EASA] AD 2014-0273 contained some incorrect and incomplete information, EASA issued AD 2014-0281 [which corresponds to FAA AD 2015-02-17], retaining the requirements of EASA AD 2014-0273, which was superseded, but correcting the information related to premod/pre Service Bulletin (SB) or post-mod/post SB aeroplane configurations.

Since EASA AD 2014-0281 was issued, in order to improve the “ELEC EMER CONFIG” procedure, Airbus developed modifications to install improved FWCs, which is embodied in production through Airbus modification (mod) 205228, and to be embodied in service with Airbus SB A330-31-3232 * * *.

For the reasons described above, this [EASA] AD retains the requirements of EASA AD 2014-0281, which is superseded, and requires installation of a software standard upgrade [or replacement] of the two FWCs and removal of the applicable AFM TR once the aeroplane is modified.

Since EASA AD 2017-0105 was issued, it was identified that there was no need to require removal of applicable AFM TR, nor incorporation of a later AFM revision, as the contents are identical. This revised [EASA] AD deletes the requirement of paragraph (3) [of EASA AD 2017-0105].

* * * * *

You may examine the MCAI in the AD docket on the internet at http://www.regulations.gov by searching for and locating Docket No. FAA-2018-0169.

Comments

We gave the public the opportunity to participate in developing this final rule. The following presents the comments received on the NPRM and the FAA's response to each comment. The Air Line Pilots Association, International (ALPA), indicated its support for the NPRM.

Request for Additional Credit

Delta Air Lines requested that paragraph (l) of the proposed AD, “Credit for Previous Actions,” include Airbus Service Bulletin A330-31-3232, Revision 01, dated February 14, 2017, as well as Airbus Service Bulletin A330-31-3232, dated May 4, 2016.

We disagree this change is necessary. Paragraph (f) of this AD requires compliance with this AD unless already done. Paragraph (j) of this AD mandates actions in accordance with Airbus Service Bulletin A330-31-3232, Revision 01, dated February 14, 2017. Therefore, as specified in paragraph (f) of this AD, having previously accomplished the actions specified in Airbus Service Bulletin A330-31-3232, Revision 01, dated February 14, 2017, means compliance with paragraph (j) of this AD has already been established. In paragraph (l) of this AD, we give credit to operators that have previously accomplished an earlier revision of the required service information identified in paragraph (j) of this AD; therefore, as specified in paragraph (l) of this AD, having accomplished Airbus Service Bulletin A330-31-3232, dated May 4, 2016, prior to the effective date of this AD means compliance with paragraph (j) of this AD has already been established. We have not changed this AD in this regard.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus SAS has issued A330/A340 Airplane Flight Manual (AFM) Temporary Revision (TR) TR427, UPDATE OF ELEC—EMER CONFIG PROCEDURE, Issue 1.0, dated November 7, 2014; and A330/A340 AFM TR TR428, UPDATE OF ELEC—EMER CONFIG PROCEDURE, Issue 1.0, dated November 7, 2014. This service information describes updated electrical emergency configuration procedures in the AFM. This service information is distinct because it applies to airplanes in different configurations.

Airbus SAS has issued Service Bulletin A330-31-3232, Revision 01, including Appendix 01, dated February 14, 2017. This service information describes procedures for replacement or modification of the FWCs.

This service information is reasonably available because the interested parties have access to it through their normal course of business or by the means identified in the ADDRESSES section.

Costs of Compliance

We estimate that this AD affects 105 airplanes of U.S. registry.

We estimate the following costs to comply with this AD:

Estimated Costs
Labor cost | Parts cost | Cost per product | Cost on U.S. operators
4 work-hour × $85 per hour = $340 | $0 | $340 | $35,700

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-02-2017, Amendment 39-18084 (80 FR 4762, January 29, 2015), and adding the following new AD:

2018-17-18 Airbus SAS: Amendment 39-19372; Docket No. FAA-2018-0169; Product Identifier 2017-NM-095-AD.

(a) Effective Date

This AD is effective October 5, 2018.

(b) Affected ADs

This AD replaces AD 2015-02-17, Amendment 39-18084 (80 FR 4762, January 29, 2015) (“AD 2015-02-17”).

(c) Applicability

This AD applies to the airplanes identified in paragraphs (c)(1), (c)(2), and (c)(3) of this AD, certificated in any category, all manufacturer serial numbers, except those airplanes with Airbus modification 205228 embodied in production.

(1) Airbus SAS Model A330-201, -202, -203, -223, and -243 airplanes.

(2) Airbus SAS Model A330-223F and -243F airplanes.

(3) Airbus SAS Model A330-301, -302, -303, -321, -322, -323, -341, -342, and -343 airplanes.

(d) Subject

Air Transport Association (ATA) of America Code 24, Electrical power.

(e) Reason

This AD was prompted by an electrical load analysis that revealed that hydraulic power might not be sufficient to supply the constant speed motor/generator (CSM/G) during slat/flap extension when only one engine is running and a determination that replacement or modification of the two flight warning computers (FWCs) is necessary to address the identified unsafe condition. We are issuing this AD to prevent such a condition which, in conjunction with the loss of the main electrical system, could lead to the scenario where the flight crew is not clearly warned that the electrical system has switched on the battery and thus has a limited duration that would allow a safe landing.

(f) Compliance

Comply with this AD within the compliance times specified, unless already done.

(g) Retained Airplane Flight Manual (AFM) Revision, With a New Exception

This paragraph restates the requirements of paragraph (g) of AD 2015-02-17, with a new exception. Except for airplanes identified in paragraph (h) of this AD: Within 15 days after February 13, 2015 (the effective date of AD 2015-02-17), revise the Emergency Procedures section of the Airbus A330/A340 AFM to include the information in the applicable Airbus temporary revision (TR) specified in paragraph (g)(1) or (g)(2) of this AD. This may be done by inserting a copy of the applicable TR specified in paragraph (g)(1) or (g)(2) of this AD into the AFM. Operate the airplane according to the procedures in the applicable TR. When the information in the applicable TR has been included in the general revisions of the AFM, the general revisions may be inserted into the AFM, provided the relevant information in the general revision is identical to that in the TR, and the TR may be removed.

(1) For airplanes in Airbus pre-modification 47930 configuration and pre-Airbus Service Bulletin A330-28-3067 configuration: Airbus A330/A340 AFM TR TR427, UPDATE OF ELEC—EMER CONFIG PROCEDURE, Issue 1.0, dated November 7, 2014.

(2) For airplanes in Airbus post-modification 47930 configuration or post-Airbus Service Bulletin A330-28-3067 configuration: Airbus A330/A340 AFM TR TR428, UPDATE OF ELEC—EMER CONFIG PROCEDURE, Issue 1.0, dated November 7, 2014.

(h) New Airplanes Not Affected by the Retained AFM Revision

Airplanes operated with an AFM that incorporates the information in Airbus EMERGENCY PROCEDURES/24-ELECTRICAL POWER/ELEC—EMER CONFIG Documentary Unit (DU) 00005218.0001001 (for airplanes in Airbus pre-modification 47930 configuration and pre-Airbus Service Bulletin A330-28-3067 configuration), or DU 00005218.0002001 (for airplanes in an Airbus post-modification 47930 configuration or post-Airbus Service Bulletin A330-28-3067 configuration), as applicable, are compliant with the requirements of paragraph (g) of this AD, provided that the applicable DU is not removed from the AFM.

(i) New Definitions

(1) For the purposes of this AD, an affected FWC is an FWC standard lower than T7-0. An FWC that is not affected is an FWC standard T7-0 having part number (P/N) LA2E20202T70000, or higher standard.

(2) For the purposes of this AD: Group 1 airplanes are those equipped with an affected FWC (as defined in paragraph (i)(1) of this AD) as of the effective date of this AD. Group 2 airplanes are those equipped with FWCs that are not affected (as defined in paragraph (i)(1) of this AD) as of the effective date of this AD.

(j) New Requirement of This AD: FWC Replacement or Modification

For Group 1 airplanes: Within 24 months after the effective date of this AD: Replace or modify an affected FWC with an FWC that is not affected, in accordance with the Accomplishment Instructions of Airbus Service Bulletin A330-31-3232, Revision 01, including Appendix 01, dated February 14, 2017.

(k) Parts Installation Prohibition

(1) For Group 1 airplanes: After accomplishing the actions required by paragraph (j) of this AD, no person may install an affected FWC on the modified airplane.

(2) For Group 2 airplanes: As of the effective date of this AD, no person may install an affected FWC on any airplane.

(l) Credit for Previous Actions

This paragraph provides credit for actions required by paragraph (j) of this AD, if those actions were performed before the effective date of this AD using Airbus Service Bulletin A330-31-3232, dated May 4, 2016.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2015-02-17 are approved as AMOCs for the corresponding provisions of this AD.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA AD 2017-0105R1, dated July 17, 2017, for related information. This MCAI may be found in the AD docket on the internet at http://www.regulations.gov by searching for and locating Docket No. FAA-2018-0169.

(2) For more information about this AD, contact Vladimir Ulyanov, Aerospace Engineer, International Section, Transport Standards Branch, FAA, 2200 South 216th St., Des Moines, WA 98198; telephone and fax 206-231-3229.

(3) Service information identified in this AD that is not incorporated by reference is available at the addresses specified in paragraphs (o)(5) and (o)(6) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 5, 2018.

(i) Airbus Service Bulletin A330-31-3232, Revision 01, including Appendix 01, dated February 14, 2017.

(ii) Reserved.

(4) The following service information was approved for IBR on of February 13, 2015 (80 FR 4762, January 29, 2015).

(i) Airbus A330/A340 Airplane Flight Manual (AFM) Temporary Revision TR427, UPDATE OF ELEC—EMER CONFIG PROCEDURE, Issue 1.0, dated November 7, 2014.

(ii) Airbus A330/A340 AFM Temporary Revision TR428, UPDATE OF ELEC—EMER CONFIG PROCEDURE, Issue 1.0, dated November 7, 2014.

(5) For service information identified in this AD, contact Airbus SAS, Airworthiness Office—EAW, Rond-Point Emile Dewoitine No: 2, 31700 Blagnac Cedex, France; telephone +33 5 61 93 36 96; fax +33 5 61 93 44 51; email account.airworth-eas@airbus.com; internet http://www.airbus.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, call 202-741-6030, or go to: http://www.archives.gov/federal-register/cfr/ibr-locations.html.

Issued in Des Moines, Washington, on August 17, 2018.
Michael Kaszycki,
Acting Director, System Oversight Division, Aircraft Certification Service.

[FR Doc. 2018-18736 Filed 8-30-18; 8:45 am]

BILLING CODE 4910-13-P